DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than December 15, 2014.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Title V Maternal and Child Health Services Block Grant to States Program: Guidance and Forms for the Title V Application/Annual Report OMB No. 0915-0172—Revision.

Abstract: The Health Resources and Services Administration (HRSA) is revising the Title V Maternal and Child Health Services Block Grant to States Program: Guidance and Forms for the Title V Application/Annual Report. The Guidance is used annually by the 50 states and nine jurisdictions in applying for Block Grants under Title V of the Social Security Act and in preparing the required Annual Report. In partnership with the leadership in State Title V Maternal and Child Health (MCH) programs as well as with other national MCH leaders and stakeholders, HRSA's Maternal and Child Health Bureau (MCHB) has been working over the past year to develop and refine a vision for transforming the MCH Block Grant to States program to better meet current and future challenges facing our nation's mothers and children, including children with special health care needs (CSHCN) and their families. The proposed revisions to the Application and Annual Reporting requirements and to the data forms that are contained in the revised guidance reflect this transformative vision.

Relative to the state's submission of a yearly Application, Annual Report and 5-year Needs Assessment, the aims of the MCH Block Grant to States program transformation are threefold: (1) Reduce burden to states, (2) maintain state flexibility, and (3) improve accountability. Revisions to this edition are intended to enable the state to tell a more cohesive and comprehensive Title V story and to better reflect on the program's leadership role and its contributions to the state's public health system in building improved and expanded systems of care for the MCH population. It is recognized that the full extent of the anticipated burden reduction will be realized over time as states become more familiar with the new instructions and reporting requirements. The burden estimates presented in the table below are based on previous burden estimates, consultations with a few states on the proposed changes, and comments received during the 60-day public comment period.

Specific changes to this edition of the Title V Maternal and Child Health Services Block Grant to States Program: Guidance and Forms for the Title V Application/Annual Report include the following:

(1) Narrative reporting will be organized by six population health domains (i.e., Women's/Maternal Health; Perinatal/Infant's Health; Child Health; CSHCN; Adolescent Health and Cross-cutting or Life Course); (2) Revised National Performance Measure (NPM) framework will be implemented with states selecting 8 of 15 NPMs for their programmatic focus; (3) state-level program data, such as breakdowns of MCH populations by race/ethnicity, health indicator data, and national performance and outcome measure data will be provided by MCHB, as available, from national data sources, thus, reducing the annual reporting burden for states; (4) Given that most MCH issues are multifactorial, the state will establish evidence based or evidence informed strategies to address each of the selected NPMs and will report on one or more of the Evidence-based or informed Strategy Measures (ESMs) developed for each NPM; (5) Revised instructions and the inclusion of a logic model for the State Title V MCH Block Grant Application/Annual Report process will provide greater emphasis on the need for the state priority needs and national MCH priority areas to drive the state's reporting on the 5-year (and ongoing) Needs Assessment findings, the selection of eight (8) NPMs which target the state-identified priority needs, the development of evidence based or informed strategies and related ESMs for addressing each of the selected NPMs, and the establishment of between three (3) and five (5) State Performance Measures (SPMs) which respond to the state's identified unique needs; (6) State Application/Annual Report will include a 5-year Action Plan for addressing the identified MCH priority areas; (7) An Executive Summary (up to five pages in length) will be included with each submitted Application/Annual Report; (8) A 5-year Needs Assessment Summary (up to 20 pages in length) will be integrated into the state's MCH Block Grant Application/Annual Report and will replace the more comprehensive, stand-alone 5-year Needs Assessment document that the state previously submitted; (9) Health System Capacity Indicators will be eliminated; and (10) Federal and State Title V program budget and expenditures will be reported separately by the state.

Need and Proposed Use of the Information: Each year, all states and jurisdictions are required to submit an Application/Annual Report for federal funds for their Title V MCH Services Block Grant to States Program to the HRSA's MCHB [Section 505(a) of Title V of the Social Security Act.) In addition, the state/jurisdictional MCH Block Grant programs are required to conduct a statewide, comprehensive Needs Assessment every 5 years. The information and instructions for the preparation and submission of this Application/Annual Report are contained in the Title V Maternal and Child Health Services Block Grant to States Program: Guidance and Forms for the Title V Application/Annual Report.

Likely Respondents: By legislation [Section 505(a) of Title V of the Social Security Act], the MCH Block Grant Application/Annual Report must be developed by, or in consultation with, the state MCH Health agency.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Burden per response (in hours) | Total burden hours
Application and Annual Report without 5-Year Needs Assessment | 59 | 1 | 59 | 123 | 7,257
Application and Annual Report with 5-Year Needs Assessment | 59 | 1 | 59 | 189.3 | 11,169
Average Total Annual Burden | 59 |  | 59 |  | * 8,561
* Reflects the average of one Application/Annual Report with Needs Assessment and two Application/Annual Reports without Needs Assessment

In fiscal year (FY) 2016, states and jurisdictions will be submitting an application and annual report with a 5-year Needs Assessment for a total estimated burden of 11,169 hours. In FY 2017 and FY 2018, states and jurisdictions will be submitting an Application and Annual Report without a 5-year needs assessment for a total estimated burden of 14,514.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: October 31, 2014
Jackie Painter,
Acting Director, Division of Policy and Information Coordination.

[FR Doc. 2014-26855 Filed 11-12-14; 8:45 am]

BILLING CODE 4165-15-P